DEPARTMENT OF HOUSING AND URBAN DEVELOPMENT

[Docket No. FR-5601-N-39]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; (This is not toll-free numbers).

Dated: September 27, 2012.
Ann Marie Oliva,
Deputy Assistant Secretary for Special Needs (Acting).

TITLE V, FEDERAL SURPLUS PROPERTY PROGRAM FEDERAL REGISTER REPORT FOR 10/05/2012

Suitable/Available Properties

Building

Colorado

Building 300

Buckley AFB

Aurora CO 80011

Landholding Agency: Air Force

Property Number: 18201230016

Status: Unutilized

Comments: off-site removal only; 1414 sf.; jet fuel labs; roof has collapse & needs to be replaced; restricted area; contact AF for details on accessibility/removal

Idaho

38 Buildings

Aspen & Lodge Pole

Mountain Home ID 83648

Landholding Agency: Air Force

Property Number: 18201230034

Status: Underutilized

Directions: 5001-5013, 5015, 5019-5023, 5025, 5027, 5029, 5031-5033, 5035-5041, 5043, 5101, 5103, 5105, 5107, 5109

Comments: off-site removal only; sf. varies; military housing; minor repairs/renovations needed; asbestos & lead present; restricted area; contact AF for info. on accessibility/removal reqs.

38 Buildings

Lodge Pole & Cottonwood

Mountain Home ID 83648

Landholding Agency: Air Force

Property Number: 18201230035

Status: Underutilized

Directions: 5110-5121, 5123, 5125, 5127-5132, 5134, 5137, 5139, 5141, 5144-5146, 5150, 5152-5161

Comments: off-site removal only; sf. varies; military housing; minor repairs/renovations needed; asbestos & lead present; restricted area; contact AF for info. on accessibility/removal reqs.

37 Buildings

Cottonwood & Sage

Mountain Home ID 83648

Landholding Agency: Air Force

Property Number: 18201230036

Status: Underutilized

Directions: 5162-5164, 5166, 5168, 5170, 5201-5208, 5210, 5212, 5214-5219, 5221, 5223, 5225-5229, 5231, 5233, 5235-5240

Comments: off-site removal only; sf. varies; military housing; minor repairs/renovations needed; asbestos & lead present; restricted area; contact AF for info. on accessibility/removal reqs.

38 Buildings

Sage, Beech, & Hickory

Mountain Home ID 83648

Landholding Agency: Air Force

Property Number: 18201230037

Status: Underutilized

Directions: 5241, 5243, 5245-5247, 5249, 5251, 5253-5255, 5257, 5259-5261, 5263, 5265, 5268, 5302-5303, 5305-5313, 5315, 5317, 5319-5323, 5323, 5327

Comments: off-site removal only; sf. varies; military housing; minor repairs/renovations needed; asbestos & lead present; restricted area; contact AF for info. on accessibility/removal reqs.

38 Buildings

Hickory & Pinon

Mountain Home ID 83648

Landholding Agency: Air Force

Property Number: 18201230038

Status: Underutilized

Directions: 5329-5333, 5335, 5337, 5339, 5341-5349, 5351, 5353, 5355-5359, 5361, 5363-5367, 5370-5377

Comments: off-site removal only; sf. varies; military housing; minor repairs/renovations needed; asbestos & lead present; restricted area; contact AF for info. on accessibility/removal reqs.

New Jersey

Building 2101

Vandenberg Ave.

Trenton NJ 08641

Landholding Agency: Air Force

Property Number: 18201230007

Status: Underutilized

Comments: off-site removal only; 24,256 sf.; central heating plant; extensive deterioration; major repairs a must to occupy; contamination; remediation needed; schedule appt. w/Real Property Office access

B-5249

South Scott Plaza

Ft. Dix NJ 08640

Landholding Agency: Air Force

Property Number: 18201230011

Status: Unutilized

Comments:off-site removal only; cooling tower; extensive deterioration; major repairs required; restricted area; contact AF for more details on accessibility/removal

B-5252

South Scott Ave.

Ft. Dix NJ 08640

Landholding Agency: Air Force

Property Number: 18201230012

Status: Unutilized

Comments: off-site removal only; 5,693 sf.; heat plant; extensive deterioration; major repairs a must to occupy; restricted area; contact AF for details on accessibility/removal

New Mexico

7 Buildings

Cannon AFB

Cannon NM 88103

Landholding Agency: Air Force

Property Number: 18201230020

Status: Underutilized

Directions: 88, 389, 2280, 2282, 2284, 86,87

Comments: off-site removal only; sf. varies; repairs needed; restricted area; contact AF for more details on accessibility/removal

Unsuitable Properties

Building

Alabama

6 Buildings

Varies Locations

Maxwell AFB AL 36112

Landholding Agency: Air Force

Property Number: 18201230025

Status: Excess

Directions: 1417, 1418, 1419, 1422, 1468, 1470

Comments: located w/in restricted area; public access denied & no alternative method to gain access w/out compromising nat'l security

Reasons: Secured Area

Bldg. 31

450 Cedar St.

Maxwell AFB AL 36112

Landholding Agency: Air Force

Property Number: 18201230026

Status: Unutilized

Comments: located w/in restricted area; public access denied & no alternative method to gain access w/out compromising nat'l security

Reasons: Secured Area

California

3 Buildings

Edwards AFB

Edwards AFB CA 93524

Landholding Agency: Air Force

Property Number: 18201230032

Status: Unutilized

Directions: 1412, 4203, 7020

Comments: located w/in restricted area where public access denied & no alternative method to gain access w/out compromising nat'l security

Reasons: Secured Area

Colorado

4 Buildings

Buckley AFB

Aurora CO 80011

Landholding Agency: Air Force

Property Number: 18201230017

Status: Underutilized

Directions: B1504, B1503, B1502, B1501

Comments: located w/in secured area where public access denied & no alternative method to gain access w/out compromising nat'l security

Reasons: Secured Area

San Latrine Shower

1093 Ferl Rd.

USAF Academy CO 80840

Landholding Agency: Air Force

Property Number: 18201230033

Status: Underutilized

Comments: located w/in secured area; public access denied & no alternative method to gain access w/out compromising nat'l security

Reasons: Secured Area

Delaware

2 Buildings

Dover AFB

Dover DE 19902

Landholding Agency: Air Force

Property Number: 18201230018

Status: Underutilized

Directions: 3499, 899

Comments: located w/in secured area where public access denied & no alternative method to gain access w/out compromising nat'l security

Reasons: Secured Area

Florida

3 Buildings

MacDill AFB

MacDill FL 33621

Landholding Agency: Air Force

Property Number: 18201230009

Status: Unutilized

Directions: 1205, 1149, 1135

Comments: located w/in secured area where public access denied & no alternative method to gain access w/out compromising nat'l security

Reasons: Secured Area

10 Buildings

Samuel C. Phillips Pkwy

Cape Canaveral AFB FL 32925

Landholding Agency: Air Force

Property Number: 18201230014

Status: Excess

Directions: 84922, 84920, 67900, 60535, 60534, 1361, 40906, 56623, 36004, 17705

Comments: located w/in secured area where public access denied & no alternative method to gain access w/out compromising nat'l security

Reasons: Secured Area

Facility 49800

15030 Samuel C. Phillips Pkwy

Cape Canaveral FL 32925

Landholding Agency: Air Force

Property Number: 18201230019

Status: Excess

Comments: located w/in secured area where public access denied & no alternative method to gain access w/out compromising nat'l security

Reasons: Secured Area

Bldg. 1132

Transmitter Rd.

MacDill AFB FL 33621

Landholding Agency: Air Force

Property Number: 18201230021

Status: Unutilized

Comments: located w/in secured area where public access denied & no alternative method to gain access w/out compromising nat'l security

Reasons: Secured Area

Illinois

B1508

107 Bucher St.

Scott AFB IL 62225

Landholding Agency: Air Force

Property Number: 18201230023

Status: Excess

Comments: authorized access only; restricted area; public access denied & no alternative method to gain access w/out compromising nat'l security

Reasons: Secured Area

New Jersey

3 Buildings

Joint Base McGuire Dix Lakehurst

Ft. Dix NJ 08640

Landholding Agency: Air Force

Property Number: 18201230008

Status: Unutilized

Directions: 9725, 9055, 9404

Comments: located w/in secured area where public access denied & no alternative method to gain access w/out compromising nat'l security

Reasons: Secured Area

Facility 9418

Joint Base McGuire Dix Lakehurst

Ft. Dix NJ 08640

Landholding Agency: Air Force

Property Number: 18201230013

Status: Unutilized

Comments: located w/in secured area where public access denied & no alternative method to gain access w/out compromising nat'l security

Reasons: Secured Area

Ohio

Facility 20167

2310 Eighth St.

WPAFB OH 43433

Landholding Agency: Air Force

Property Number: 18201230031

Status: Unutilized

Comments: located w/in controlled fenced perimeter of military installation; public access denied & no alternative method to gain access w/out compromising nat'l security

Reasons: Secured Area

Oklahoma

Facility 47

Altus AFB

AGGN OK 73523

Landholding Agency: Air Force

Property Number: 18201230030

Status: Excess

Comments: public access denied due to anti-terrorism/force protection & no alternative method to gain access w/out compromising nat'l security

Reasons: Secured Area

Tennessee

ACFT DY RSCH TEST

675 Second St.

Arnold AFB TN 37389

Landholding Agency: Air Force

Property Number: 18201230039

Status: Underutilized

Comments: located in secured restricted area; public access denied & no alternative method to gain access w/out compromising nat'l security

Reasons: Secured Area

4 Buildings

2219 Sixth St.

Arnold AFB TN 37389

Landholding Agency: Air Force

Property Number: 18201230040

Status: Underutilized

Directions: 2220, 2221, 2222, 2223

Comments: located in secured restricted area; public access denied & no alternative method to gain access w/out compromising nat'l security

Reasons: Secured Area

Texas

5 Buildings

Goodfellow AFB

Goodfellow TX 76908

Landholding Agency: Air Force

Property Number: 18201230027

Status: Excess

Directions: 104, 508, 538, 707, 3070

Comments: anti-terrorism & force protection; located w/in restricted area where public access denied & no alternative method to gain access w/out compromising nat'l security

Reasons: Secured Area

B-6283

4810 Camp Bullis

Camp Bullis TX 78257

Landholding Agency: Air Force

Property Number: 18201230028

Status: Unutilized

Comments: located w/in secured area; public access denied & no alternative method to gain access w/out compromising nat'l security

Reasons: Secured Area

7 Buildings

4810 Camp Bullis

Camp Bullis TX 78257

Landholding Agency: Air Force

Property Number: 18201230029

Status: Unutilized

Directions: B5288, 5289, 5290, 5291, 5292, 5293, 5294

Comments: located w/in secured area where public access denied & no alternative method to gain access w/out compromising nat'l security

Reasons: Secured Area

Washington

4 Buildings

South Taxiway Rd.

Fairchild AFB WA 99011

Landholding Agency: Air Force

Property Number: 18201230010

Status: Underutilized

Directions: 1024, 1023, 1026, 1021

Comments: located w/in the boundary of an active AF installation where public access denied & no alternative method to gain access w/out compromising nat'l security

Reasons: Secured Area

Hanger 1025

200 S. Taxiway I Rd.

Fairchild AFB WA 99011

Landholding Agency: Air Force

Property Number: 18201230024

Status: Underutilized

Comments: located w/in controlled active installation; public access denied & no alternative method w/out compromising nat'l security

Reasons: Secured Area

[FR Doc. 2012-24268 Filed 10-4-12; 8:45 am]

BILLING CODE 4210-67-P